GENERAL SERVICES ADMINISTRATION

Privacy Act of 1974; Notice of Updated Systems of Records

AGENCY: General Services Administration.

ACTION: Notice.

SUMMARY: GSA reviewed its Privacy Act systems to ensure that they are relevant, necessary, accurate, up-to-date, covered by the appropriate legal or regulatory authority, and in response to OMB M-07-16. This notice is a compilation of updated Privacy Act system of record notices.

DATES: Effective May 27, 2008.

FOR FURTHER INFORMATION CONTACT: Call or e-mail the GSA Privacy Act Officer: telephone 202-208-1317; e-mail gsa.privacyact@gsa.gov.

ADDRESSES: GSA Privacy Act Officer (CIB), General Services Administration, 1800 F Street, NW., Washington, DC 20405.

SUPPLEMENTARY INFORMATION: GSA undertook and completed an agency-wide review of its Privacy Act systems of records. As a result of the review GSA is publishing updated Privacy Act systems of records notices. Rather than make numerous piecemeal revisions, GSA is republishing updated notices for one of its systems. Nothing in the revised system notices indicates a change in authorities or practices regarding the collection and maintenance of information. Nor do the changes impact individuals' rights to access or amend their records in the systems of records. The updated system notices also include the new requirement from OMB Memorandum M-07-16 regarding a new routine use that allows agencies to disclose information in connection with a response and remedial efforts in the event of a data breach.

Dated: April 16, 2008.
Cheryl M. Paige,
Director, Office of Information Management.

GSA/PBS-4

SYSTEM NAME:

System for Tracking and Administering Real-property (STAR).

SYSTEM LOCATION:

Electronic records are maintained at the GSA Public Buildings Service (PBS) Enterprise Service Center site. Paper records are located in PBS regional and field offices. Contact the system manager for additional information.

SYSTEM LOCATION:

STAR includes information on individuals who are sole proprietors who lease property to the Federal Government. In addition to sole proprietors, individuals who might be designated to receive lease payments are included. Information on these individuals includes their name, contact information, and their Taxpayer Identification Number (TIN).

CATEGORIES OF RECORDS IN THE SYSTEM:

The system maintains an inventory of government owned and leased property and includes:

a. Personal information of property owners, including sole proprietors who are designated as Lessors, or the sole proprietor's designee who is authorized to receive payments for the lease, designated as Lease Payee. b. Internal communications that reference the Lessors and Lease Payees.

AUTHORITIES FOR MAINTENANCE OF THE SYSTEM:

40 U.S.C. Chapters 5, 31, and 33.

PURPOSE:

To establish and maintain a system for tracking and administering leased property.

ROUTINE USES OF THE SYSTEM RECORDS, INCLUDING CATEGORIES OF USERS AND THEIR PURPOSES FOR USING THE SYSTEM:

System information may be accessed and used by authorized GSA employees or contractors in the conduct of official duties associated with the tracking and administration of leased property. The information may be shared with the GSA real property management systems Rent Estimate, Business Information Solution, Occupancy Agreement Tool, and Data Gateway. Information from this system also may be disclosed as a routine use:

a. In any legal proceeding, where pertinent, to which GSA is a party before a court or administrative body.

b. To a Federal, State, local, or foreign agency responsible for investigating, prosecuting, enforcing, or carrying out a statute, rule, regulation, or order when GSA becomes aware of a violation or potential violation of civil or criminal law or regulation.

c. To duly authorized officials engaged in investigating or settling a grievance, complaint, or appeal filed by an individual who is the subject of the record.

d. To the Office of Personnel Management (OPM) and the Government Accountability Office (GAO) when the information is required for evaluation of the program.

e. To a Member of Congress or his or her staff on behalf of and at the request of the individual who is the subject of the record.

f. To an expert, consultant, or contractor of GSA in the performance of a Federal duty to which the information is relevant.

g. To the National Archives and Records Administration (NARA) for records management purposes.

h. To appropriate agencies, entities, and persons when (1) The Agency suspects or has confirmed that the security or confidentiality of information in the system of records has been compromised; (2) the Agency has determined that as a result of the suspected or confirmed compromise there is a risk of harm to economic or property interests, identity theft or fraud, or harm to the security or integrity of this system or other systems or programs (whether maintained by GSA or another agency or entity) that rely upon the compromised information; and (3) the disclosure made to such agencies, entities, and persons is reasonably necessary to assist in connection with GSA's efforts to respond to the suspected or confirmed compromise and prevent, minimize, or remedy such harm.

POLICIES AND PRACTICES FOR STORING, RETRIEVING, ACCESSING, RETAINING, AND DISPOSING OF SYSTEM RECORDS:

STORAGE:

Information may be collected on paper or electronically and may be stored on paper or on electronic media, as appropriate. Electronic records are kept on server hard drives and/or CD-ROM.

RETRIEVABILITY:

Records are retrievable by a lessor's or designee's name and/or TIN.

SAFEGUARDS:

System records are safeguarded in accordance with the requirements of the Privacy Act, the Computer Security Act, and the STAR System Security Plan. Technical, administrative, and personnel security measures are implemented to ensure confidentiality and integrity of the system data that is stored, processed, and transmitted. Paper records are stored in secure cabinets or rooms. Electronic records are protected by passwords and other appropriate security measures.

RETENTION AND DISPOSAL:

Disposition of records is according to the National Archives and Records Administration (NARA) guidelines, as set forth in the GSA Records Maintenance and Disposition System handbooks OAD P 1820.2A and CIO P 1820.1, and authorized GSA records schedules.

SYSTEM MANAGER AND ADDRESS:

STAR Program Manager, Systems Development Division (PGAB), Office of Technology Capital Asset Management, Room 5217, General Services Administration, 1800 F Street, NW., Washington, DC 20405-0001.

NOTIFICATION PROCEDURES:

An individual may obtain information on whether the system contains his or her record by addressing a request to the STAR Program Manager at the above address.

RECORD ACCESS PROCEDURES:

Requests from individuals for access to their records should be addressed to the STAR Program Manager at the above address.

CONTESTING RECORD PROCEDURES:

GSA rules for access to systems of records, for contesting the contents of systems of records, and for appealing initial determinations are published in the Federal Register, 41 CFR part 105-64.

RECORD SOURCE CATEGORIES:

Information is obtained from individuals who are sole proprietor property owners or individuals who are designated to receive lease payments.

[FR Doc. E8-8921 Filed 4-24-08; 8:45 am]

BILLING CODE 6820-34-P